DEPARTMENT OF LABOR

Employment and Training Administration

Notice of Renewal of the Advisory Committee on Apprenticeship (ACA) Charter

AGENCY: Employment and Training Administration, Labor.

ACTION: Notice of Charter Renewal.

SUMMARY: The Secretary of Labor has determined that the renewal of a national advisory committee on apprenticeship is necessary and in the public interest. The Department of Labor will renew the ACA Charter with revisions. The revisions are not intended to change the purpose or the Committee's original intent. The revisions are intended as a routine updating of the Department's strategic goals and existing procedures. The Charter for the ACA expired on January 15, 2011.

SUPPLEMENTARY INFORMATION: Registered Apprenticeship is a unique public-private partnership that is highly dependent on the engagement and involvement of its stakeholders and partners for its ongoing operational effectiveness. Apart from the ACA, there is no single source or group with the broad representation of labor, employers, and the public available to consider the complexities and relationship of apprenticeship activities to other training efforts or to provide advice on such matters to the Secretary and DOL officials. It is particularly important to have such considerations at this time in view of the current widespread and national interest in the role apprenticeship can play in providing career pathways to good jobs for all populations in a range of high growth industries, including healthcare and clean and renewable energy. For these reasons, the Secretary of Labor has determined that the renewal of a national advisory committee on apprenticeship is necessary and in the public interest.

The ACA is being renewed to provide advice and recommendations to the Secretary on the following: (1) The development and implementation of policies, legislation and regulations affecting the National Registered Apprenticeship System; (2) strategies to expand the use of the Registered Apprenticeship model in demand occupations in industries, such as, but not limited to, clean and renewable energy sectors, and healthcare; (3) ways to more effectively partner with the public workforce system and educational institutions and communities to leverage Registered Apprenticeship as a valued post secondary credential; (4) the development of career pathways that can lead to good jobs for everyone and sustained employment for new and incumbent workers, youth, and under-utilized and disadvantaged populations; and (5) efforts to improve the performance, quality and oversight, and recognition and utilization of the National Registered Apprenticeship System which will foster quality work places that are safe, healthy, and fair.

The current ACA Charter expired January 15, 2011. The ACA's Charter is required to be renewed every two years from the date of the Secretary of Labor's signature. Given that the Charter was last renewed in January 2009, it has been revised in several sections to reflect the current state of the National Apprenticeship System and to better align with the Secretary's priorities.

FOR FURTHER INFORMATION CONTACT: Mr. John V. Ladd, Administrator, Office of Apprenticeship, Employment and Training Administration, U.S. Department of Labor, Room N-5311, 200 Constitution Avenue, NW., Washington, DC 20210. Telephone: (202) 693-2796, (this is not a toll-free number).

Signed at Washington, DC, this 25th day of January 2011.
Jane Oates,
Assistant Secretary for the Employment and Training Administration.

[FR Doc. 2011-1996 Filed 1-28-11; 8:45 am]

BILLING CODE 4510-FR-P